NUCLEAR REGULATORY COMMISSION

[Docket Nos. 50-498 and 50-499; NRC-2023-0095]

STP Nuclear Operating Company; South Texas Project, Units 1 and 2

AGENCY: Nuclear Regulatory Commission.

ACTION: Exemption; issuance.

SUMMARY: The U.S. Nuclear Regulatory Commission (NRC) has issued an exemption in response to an April 13, 2023, request, as supplemented (replaced in its entirety) by letter dated April 17, 2023, from STP Nuclear Operating Company that requested a one-time exemption that would allow for the reporting of Radiation Exposure Information and Reporting System data from South Texas Project, Units 1 and 2 (STP) to be extended from the required date of April 30, 2023, until August 31, 2023.

DATES: The exemption was issued on April 27, 2023.

ADDRESSES: Please refer to Docket ID NRC-2023-0095 when contacting the NRC about the availability of information regarding this document. You may obtain publicly available information related to this document using any of the following methods:

• Federal Rulemaking Website: Go to https://www.regulations.gov and search for Docket ID NRC-2023-0095. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The request for the exemption was submitted by letter dated April 13, 2023, as supplemented (replaced in its entirety) by letter dated April 17, 2023, and are available in ADAMS under Accession Nos. ML23103A432 and ML23107A251, respectively.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Dennis Galvin, Office of Nuclear Reactor Regulation, U.S. Nuclear Regulatory Commission, Washington, DC 20555-0001, telephone: 301-415-6256; email: Dennis.Galvin@nrc.gov.

SUPPLEMENTARY INFORMATION: The text of the exemption is attached.

Dated: April 28, 2023.
For the Nuclear Regulatory Commission.
Thomas J. Wengert,
Senior Project Manager, Plant Licensing Branch IV, Division of Operating Reactor Licensing, Office of Nuclear Reactor Regulation.

Attachment—Exemption

NUCLEAR REGULATORY COMMISSION

Docket Nos. 50-498 and 50-499

South Texas Project Nuclear Operating Company South Texas Project, Units 1 and 2

Exemption

I. Background

STP Nuclear Operating Company (STPNOC, the licensee) is the holder of Renewed Facility Operating License Nos. NPF-76 and NPF-80, which authorize operation of South Texas Project, Units 1 and 2 (STP), respectively. The licenses provide, among other things, that the facility is subject to all rules, regulations, and orders of the U.S. Nuclear Regulatory Commission (NRC, the Commission) now or hereafter in effect. The facility consists of two pressurized-water reactors located in Matagorda County, Texas.

II. Request/Action

By application dated April 13, 2023 (Agencywide Documents Access and Management System (ADAMS) Accession No. ML23103A432), as supplemented (replaced in its entirety) on April 17, 2023 (ML23107A251), STPNOC requested an exemption from the reporting requirement in Title 10 of the Code of Federal Regulations (10 CFR) 20.2206(c). Specifically, the licensee's requested one-time exemption would allow for the reporting of Radiation Exposure Information and Reporting System (REIRS) data from STP to be extended from the required date of April 30, 2023, until August 31, 2023. The licensee requested the exemption because its vendor that is processing the 2022 STPNOC dosimetry has not yet provided the data necessary for submittal of an annual report of the results of individual monitoring in accordance with 10 CFR 20.2206(c) and the licensee does not have confidence that the vendor will provide the data by April 30, 2023.

The regulation in 10 CFR 20.2206, “Reports of individual monitoring,” requires the annual submittal to the NRC of a report of the results of radiation dose monitoring conducted by licensees under the provisions of 10 CFR 20.1502, “Conditions requiring individual monitoring of external and internal occupational dose,” covering the preceding year; the report is to be submitted on or before April 30 of each year. The regulations in 10 CFR 20.1502 provide the conditions that require individual monitoring of external and internal occupational radiation doses. The regulations in 10 CFR 20.2106, “Records of individual monitoring results,” require, in part, that each licensee maintain records of radiation doses received by all individuals for whom radiation dose monitoring was required by 10 CFR 20.1502, and records of doses received during planned special exposures, accidents, and emergency conditions.

III. Discussion

Pursuant to 10 CFR 20.2301 “Applications for exemptions,” the Commission may, upon application by a licensee or upon its own initiative, grant exemptions from the requirements of 10 CFR part 20, “Standards for Protection Against Radiation,” if it determines that the exemptions are authorized by law and would not result in undue hazard to life or property.

A. The Exemption Is Authorized by Law

There are no provisions in the Atomic Energy Act of 1954, as amended (or in any other Federal statute) that impose a requirement for submitting reports of the results of required radiation dose monitoring by April 30 of each year to the NRC; rather, this requirement appears in 10 CFR part 20, which also allows the NRC to issue exemptions from those requirements. Therefore, the NRC staff concludes that there is no statutory or regulatory prohibition on the issuance of the requested exemption and the NRC is authorized to grant the exemption by law, upon finding that the exemption is otherwise acceptable.

B. The Exemption Presents no Undue Hazard to Life or Property

In determining that granting the exemption would not result in undue hazard to life,¹ the NRC staff conducted a risk-informed assessment of the impact of the exemption on the purpose of the NRC's standards for protection against radiation, as stated in 10 CFR 20.1001(b). Specifically, the regulation in 10 CFR 20.1001(b) states, in part:

¹ The NRC staff determined that the exemption as requested and evaluated by the NRC does not impact property.

It is the purpose of the regulations in this part to control the receipt, possession, use, transfer, and disposal of licensed material by any licensee in such a manner that the total dose to an individual (including doses resulting from licensed and unlicensed radioactive material and from radiation sources other than background radiation) does not exceed the standards for protection against radiation prescribed in the regulations in this part.

This risk-informed assessment considered the impact of the exemption on reports of exposure information to individuals and the NRC.

Reports to Individuals

The regulation in 10 CFR 19.13, “Notifications and reports to individuals,” provides requirements for notifications and reports of radiation dose data to individuals. For example, 10 CFR 19.13(b) requires licensees to make records maintained under the provisions of 10 CFR 20.2106 available to workers and to provide an annual report to each individual monitored under the provisions of 10 CFR 20.1502 if the individual's occupational dose exceeds a total effective dose equivalent (TEDE) of 100 millirem (mrem) (1 millisievert (mSv)), or 100 mrem (1 mSv) to any individual organ or tissue, or upon request of the individual.

As stated in 10 CFR 20.1001, the ultimate purpose of the requirements in 10 CFR part 20 are to ensure that doses to individuals do not exceed the NRC's radiation protection standards. The monitoring, recording, and reporting of radiation dose data for occupationally exposed individuals as required by 10 CFR part 20 is essential in ensuring that radiation protection standards are not exceeded for any individual worker, because it allows licensees to track doses and, if necessary, take action before applicable limits are exceeded. The recording of this information is also necessary to ensure that workers who transition from one employer to another are adequately protected in that the total annual dose to workers from all employers is kept within applicable limits.

In its exemption request, the licensee described three methods of obtaining personnel radiation dose data. First, doses from radiation exposures can be estimated using information collected from electronic dosimeters that are issued to workers. Second, the dose data can be determined by conducting exposure investigations. Lastly, data from individually issued thermoluminescent dosimeters (TLDs) can be obtained from the licensee's contracted dosimetry service provider. The first and second methods are currently available to the licensee; however, the licensee prefers to submit TLD-based data in part to remain consistent with previous years' reports. This is consistent with long-standing industry practice that passive dosimetry, like TLDs, are used as dosimetry of legal record. However, the licensee states that the TLD-based data has not yet been provided to the licensee by its contracted dosimetry service provider and the licensee does not have confidence that it will obtain the data in time to meet the April 30 reporting deadline.

The licensee states that it is awaiting TLD-based data for over 800 personnel. Conducting exposure investigations and reconciling electronic dosimeter data to establish a final record of doses for this magnitude of individuals is a resource intensive activity that would impose an undue burden on the licensee to achieve before April 30. Nor does there appear to be any safety benefit in assembling those data before the contractor provides the dosimetry results. In this regard, the licensee reviewed the electronic dosimeter data and determined that no individual's annual dose reached regulatory limits, and no irregularities are expected between the electronic dosimeter data and the final record data that is to be submitted.

The NRC staff expects that the reports required per 10 CFR 19.13(b)(1) will be provided by the licensee to the applicable individuals, after the licensee establishes its final record of doses, which is expected on or before August 31, 2023. However, because the licensee maintains electronic dosimeter data and can perform exposure investigations, it is able to satisfy the purpose of 10 CFR part 20, to ensure that the annual doses to individuals do not exceed the NRC's radiation protection standards. Additionally, the licensee is able to meet its obligations per 10 CFR 19.13, to provide exposure information to individuals upon request.

Reports to the NRC

The regulation in 10 CFR 20.2206(a) provides a list of categories of NRC licensees that are required to provide reports of individual radiation dose monitoring to the NRC. The regulation in 10 CFR 20.2206(b) states that licensees who fit a category listed in 10 CFR 20.2206(a), such as STPNOC, shall submit to the NRC reports of the results of individual radiation dose monitoring carried out by the licensee during the prior year for individuals for whom monitoring was required by 10 CFR 20.1502. Additionally, the regulation in 10 CFR 20.2206(c) requires that these reports, covering the preceding year, be submitted on or before April 30 each year. The NRC collects radiation dose data to support decision-making in its oversight of radiation protection performance of its licensees. The preface to NUREG-0713, Volume 42, “Occupational Radiation Exposure at Commercial Nuclear Power Reactors and Other Facilities 2020,” dated September 2022 (ML22276A269), states that the NRC uses these data, in combination with other information, to provide facts regarding routine occupational exposures to radiation and radioactive material that occur in connection with certain NRC-licensed activities, for use in making decisions that impact public health and safety. The Preface to NUREG-0713 provides examples of how the NRC uses these data, including:

1. The evaluation of trends, both favorable and unfavorable, from the viewpoint of the effectiveness of overall NRC/licensee radiation protection and as low as is reasonably achievable (ALARA) efforts by licensees.

2. The evaluation of the radiological risk associated with certain categories of NRC-licensed activities and the comparative analysis of radiation protection performance by country, reactor type, civilian/military, facility, and industry.

3. Use of the data in the NRC Reactor Oversight Process for inspection planning and in the Significance Determination Process.

4. Use of the data in making evidence-based decisions regarding the radiation exposure to transient individuals.

5. Use of the data to establish priorities for the use of NRC health physics resources: research, standards development, regulatory program development, and inspections conducted at NRC-licensed facilities.

6. Use of the data in answering Congressional and administrative inquiries as well as responding to questions raised by the public.

7. Use of the data to provide radiation exposure histories to individuals who were exposed to radiation at NRC-licensed facilities.

8. Use of the data in conducting epidemiologic studies.

As may be seen in the above description, the NRC's use of radiation dose data for occupationally exposed individuals serves various long-term initiatives that necessarily depend on data spanning multiple years in broad categories of licensees. Therefore, while the continued collection of this data is essential to the NRC's mission as it pertains to radiation protection, a licensee's delay by several months in reporting the data for its facility would have minimal impact on the NRC's ability to ensure adequate protection of public health and safety, and would not impact individual worker safety since the data pertaining to each worker would be readily available at the facility despite the requested delay in reporting to the NRC. Therefore, the NRC staff concludes that granting the exemption would not result in undue hazard to life or property.

C. Environmental Considerations

The NRC staff determined that the exemption discussed herein meets the eligibility criteria for the categorical exclusion set forth in 10 CFR 51.22(c)(25), and there are no extraordinary circumstances present that would preclude reliance on this exclusion. The NRC staff determined, per 10 CFR 51.22(c)(25)(vi)(B), that the requirements from which the exemption is sought involve reporting requirements.

The NRC staff also determined that approval of this one-time exemption involves no significant hazards consideration because it does not authorize any physical changes to the facility or any of its safety systems and does not involve modifications that could alter the manner in which facility structures, systems, and components are operated and maintained.

There is no significant change in the types or significant increase in the amounts of any effluents that may be released offsite because this exemption does not affect the types, characteristics, or quantities of effluents discharged to the environment. There is no significant increase in individual or cumulative public or occupational radiation exposure because this exemption does not affect limits on the release of any radioactive material, or the limits provided in 10 CFR part 20 for radiation exposure to workers or members of the public. There is no significant construction impact because this exemption does not involve any physical changes to the facility. There is no significant increase in the potential for or consequences from radiological accidents because the exemption does not alter any of the assumptions or limits in the licensee's safety analysis. In addition, the NRC staff determined that there would be no significant impacts to biota, water resources, historic properties, cultural resources, or socioeconomic conditions in the region. Therefore, pursuant to 10 CFR 51.22(b), no environmental impact statement or environmental assessment need be prepared in connection with the approval of the requested exemption.

IV. Conclusions

Accordingly, the Commission has determined that, pursuant to 10 CFR 20.2301, the exemption is authorized by law, and will not present an undue hazard to life and property. Therefore, the Commission hereby grants STPNOC a one-time exemption from 10 CFR 20.2206 to delay the reporting of its REIRS data as required on April 30, 2023, until August 31, 2023.

Dated at Rockville, Maryland, this 27th day of April 2023.

For the Nuclear Regulatory Commission.

Gregory F. Suber,

Deputy Director, Division of Operating Reactor Licensing, Office of Nuclear Reactor Regulation.

[FR Doc. 2023-09373 Filed 5-2-23; 8:45 am]

BILLING CODE 7590-01-P